DEPARTMENT OF STATE

[Public Notice: 10725]

Space Enterprise Summit, June 26-27, 2019

ACTION: Notice of a meeting

SUMMARY: The U.S. Department of State announces a joint event with the Department of Commerce to further Space Policy Directive-3 activities, to forge partnerships with the space industry, and to promote U.S. Government and commercial best practices and standards for space safety and the preservation of the global space environment.

DATES: Wednesday, 26 June, 2019, from 2:00 p.m. to 5:30 p.m.; and Thursday, 27 June, 2019, from 9:00 a.m. to 5:00 p.m.

ADDRESSES: The Loy Henderson Conference Room, Department of State, 2201 C Street Northwest, Washington, District of Columbia 20520.

FOR FURTHER INFORMATION CONTACT: Stephanie Wan, Space Enterprise Summit Coordinator, Office for Space and Advanced Technology, Bureau of Oceans and International Environmental and Scientific Affairs, Department of State, Washington, DC 20522, phone 202-663-2672, or email spacesummit@state.gov. For inquiries specifically related to press and/or media, please contact OES-PA-DG@state.gov.

SUPPLEMENTARY INFORMATION: The meeting will be open to the public, including the media and members and staff of governmental and nongovernmental organizations, up to the seating capacity of the room; prior registration through the event website is required. Confirmed attendees should plan to arrive at least thirty minutes in advance to check-in at registration desks and allow for a prompt start. For more information on the Space Enterprise Summit, please visit: https://www.state.gov/e/oes/sat/spacesummit/index.htm

The agenda for the meeting includes the following topics:

• U.S. Commercial Space Activities: Outline innovative commercial space activities, the government role in stimulating such activities, and highlight examples of industry spurring changes in government activity.

• The International Dimension: Industry and government to explore the challenges and opportunities of international collaboration and competition resulting from the global nature of the commercial space enterprise.

• Removing Regulatory Barriers: Developing a robust commercial space economy through the creation of a more permissive, “light-touch” regulatory regime that accommodates rapid innovation and expansion of commercial markets.

• Responsible Behavior in Space: Explore efforts to improve responsible behavior in space. Examine best practices and guidelines in long term sustainability for preserving the outer space environment for future commercial space investment and use.

• Role of International Institutions: Impact of UN, international trade, international financial regulation, and other institutions that potentially affect value and access for space products and services.

• Improving Analysis and Narratives for the Value of Space: Encouraging a better understanding of the economic value of space activities on earth.

• Best Practices in Civil SSA/STM and Debris Removal: The respective roles of government and commercial actors in protecting the space environment and creating industry standards and best practices regarding civil SSA/STM.

Kenneth D. Hodgkins,
Director, Office of Space and Advance Technology, Department of State.

[FR Doc. 2019-06726 Filed 4-4-19; 8:45 am]

BILLING CODE 4710-09-P